SECURITIES AND EXCHANGE COMMISSION

Order of Suspension of Trading

June 8, 2004.

In the matter of Alcohol Sensors Int'l, Ltd., Beachport Entertainment Corp., Biosonics, Inc., Compressent, Inc., Eye Cash Networks, Inc., F/k/a eConnect F/k/a Betting, Inc., Hamilton-Biophile Companies, Holly Holdings, Inc., Intelligent Decision Systems, Inc., Long Distance Direct Holdings, Inc., LRG Restaurant Group, Inc., Nevada Manhattan Group, Inc., Parallel Technologies, Inc., Quadratech, Inc., Redneck Foods, Inc., Safetech Industries, Inc. F/k/a Bernstein Leibstone Associates, Inc., Viking Resources International, Inc., and Xavier Corp.; File No. 500-1

It appears to the Securities and Exchange Commission that there is a lack of current and accurate information concerning the securities of Alcohol Sensors Int'l, Ltd. because despite a November 6, 1998 permanent injunction enjoining the company from failing to file timely periodic reports with the Commission in violation of Section 13(a) of the Securities Exchange Act of 1934, the company has not filed a periodic report since the period ending September 30, 1998.

It appears to the Securities and Exchange Commission that there is a lack of current and accurate information concerning the securities of Beachport Entertainment Corp. because despite a March 22, 2000 permanent injunction enjoining the company from failing to file timely periodic reports with the Commission in violation of Section 13(a) of the Securities Exchange Act of 1934, the company has not filed a periodic report since the period ending December 30, 1997.

It appears to the Securities and Exchange Commission that there is a lack of current and accurate information concerning the securities of Biosonics, Inc. because despite a February 9, 2001 permanent injunction enjoining the company from failing to file timely periodic reports with the Commission in violation of Section 13(a) of the Securities Exchange Act of 1934, the company has not filed a periodic report since the period ending June 30, 1999.

It appears to the Securities and Exchange Commission that there is a lack of current and accurate information concerning the securities of Compressent, Inc. because despite a March 27, 2000 permanent injunction enjoining the company from failing to file timely periodic reports with the Commission in violation of Section 13(a) of the Securities Exchange Act of 1934, the company has not filed a periodic report since the period ending June 30, 1998.

It appears to the Securities and Exchange Commission that there is a lack of current and accurate information concerning the securities of Eye Cash Networks, Inc. because despite a March 16, 1999 permanent injunction enjoining the company from failing to file timely periodic reports with the Commission in violation of Section 13(a) of the Securities Exchange Act of 1934, the company has not filed its annual report for 2002, nor its quarterly reports for 2003.

It appears to the Securities and Exchange Commission that there is a lack of current and accurate information concerning the securities of Hamilton-Biophile Companies because despite a June 4, 1999 permanent injunction enjoining the company from failing to file timely periodic reports with the Commission in violation of Section 13(a) of the Securities Exchange Act of 1934, the company has not filed a periodic report since the period ending September 30, 2001.

It appears to the Securities and Exchange Commission that there is a lack of current and accurate information concerning the securities of Holly Holdings, Inc. because despite a January 8, 1998 permanent injunction enjoining the company from failing to file timely periodic reports with the Commission in violation of Section 13(a) of the Securities Exchange Act of 1934, the company has not filed a periodic report since the period ending December 31, 1997.

It appears to the Securities and Exchange Commission that there is a lack of current and accurate information concerning the securities of Intelligent Decision Systems, Inc. because despite a January 2, 2001 permanent injunction enjoining the company from failing to file timely periodic reports with the Commission in violation of Section 13(a) of the Securities Exchange Act of 1934, the company has not filed a periodic report since the period ending March 31, 1998.

It appears to the Securities and Exchange Commission that there is a lack of current and accurate information concerning the securities of Long Distance Direct Holdings, Inc. because despite a March 13, 2000 permanent injunction enjoining the company from failing to file timely periodic reports with the Commission in violation of Section 13(a) of the Securities Exchange Act of 1934, the company has not filed a periodic report since the period ending September 30, 1998.

It appears to the Securities and Exchange Commission that there is a lack of current and accurate information concerning the securities of LRG Restaurant Group, Inc. because despite a August 26, 1998 permanent injunction enjoining the company from failing to file timely periodic reports with the Commission in violation of Section 13(a) of the Securities Exchange Act of 1934, the company has not filed a periodic report since the period ending August 31, 1996.

It appears to the Securities and Exchange Commission that there is a lack of current and accurate information concerning the securities of Nevada Manhattan Group, Inc. because despite a March 10, 2000 permanent injunction enjoining the company from failing to file timely periodic reports with the Commission in violation of Section 13(a) of the Securities Exchange Act of 1934, the company has not filed a periodic report since the period ending May 31, 1999.

It appears to the Securities and Exchange Commission that there is a lack of current and accurate information concerning the securities of Parallel Technologies, Inc. because despite a August 30, 1996 permanent injunction enjoining the company from failing to file timely periodic reports with the Commission in violation of Section 13(a) of the Securities Exchange Act of 1934, the company has not filed a periodic report since the period ending September 30, 1994.

It appears to the Securities and Exchange Commission that there is a lack of current and accurate information concerning the securities of Quadratech, Inc. because despite a June 16, 1998 permanent injunction enjoining the company from failing to file timely periodic reports with the Commission in violation of Section 13(a) of the Securities Exchange Act of 1934, the company has not filed a periodic report since the period ending September 30, 2000.

It appears to the Securities and Exchange Commission that there is a lack of current and accurate information concerning the securities of Redneck Foods, Inc. because despite a June 12, 2001 permanent injunction enjoining the company from failing to file timely periodic reports with the Commission in violation of Section 13(a) of the Securities Exchange Act of 1934, the company has not filed a periodic report since the period ending September 30, 2001.

It appears to the Securities and Exchange Commission that there is a lack of current and accurate information concerning the securities of Safetech Industries, Inc. because despite a December 2, 1998 permanent injunction enjoining the company from failing to file timely periodic reports with the Commission in violation of Section 13(a) of the Securities Exchange Act of 1934, the company has not filed a periodic report since the period ending September 30, 1997.

It appears to the Securities and Exchange Commission that there is a lack of current and accurate information concerning the securities of Viking Resources International, Inc. because despite a March 10, 1998 permanent injunction enjoining the company from failing to file timely periodic reports with the Commission in violation of Section 13(a) of the Securities Exchange Act of 1934, the company has not filed a periodic report since the period ending March 31, 1999.

It appears to the Securities and Exchange Commission that there is a lack of current and accurate information concerning the securities of Xavier Corp. because despite a April 16, 1998 permanent injunction enjoining the company from failing to file timely periodic reports with the Commission in violation of Section 13(a) of the Securities Exchange Act of 1934, the company has not filed a periodic report since the period ending September 30, 1996.

The Commission is of the opinion that the public interest and the protection of investors require a suspension of trading in the securities of the above-listed companies.

Therefore, it is ordered, pursuant to Section 12(k) of the Securities Exchange Act of 1934, that trading in the above-listed companies is suspended for the period from 9:30 a.m. EDT on June 8, 2004, through 11:59 p.m. EDT on June 21, 2004.

By the Commission.
Jill M. Peterson,
Assistant Secretary.

[FR Doc. 04-13274 Filed 6-8-04; 1:11 pm]

BILLING CODE 8010-01-P